DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of approval and availability of revision to the Final Revised Management Plan for the Jobos Bay National Estuarine Research Reserve, 2001-2005.

SUMMARY: Notice is hereby given that the Estuarine Reserves Division, Office of Ocean and Coastal Resource Management, has approved the revised Management Plan for the Jobos Bay National Estuarine Research Reserve (JBNERR). The JBNERR was designated in 1981 and has been operating under a Management Plan approved in 1982. Pursuant to Section 315 of the Coastal Zone Management Act, 16 U.S.C. Section 1461, and Section 921.33(c) of the implementing regulations, a state must revise its management plan at least every five years, or more often if necessary. This revision is Puerto Rico's effort to comply with this requirement.

FOR FURTHER INFORMATION CONTACT: Nathalie Peter, OCRM, Estuarine Reserves Division, 1305 East-West Highway, 11th Floor (N/ORM5), Silver Spring, Maryland 20910. (301) 713-3155, Extension 119.

SUPPLEMENTARY INFORMATION: The JBNERR Management Plan Revision contains the program mission, goals and objectives of the JBNERR, and establishes policies that will protect the natural resources and ecological integrity of the reserve. It provides guidance for reserve operation and management with the objective of providing long-term opportunities for research, education and stewardship.

The JBNERR Management Plan Revision was prepared by the Puerto Rico Department of Natural and Environmental Resources (DNER). It was presented at a public hearing at the JBNERR Visitors Center on March 30, 1999. The Puerto Rico Planning Board adopted the plan on March 3, 2000, under Resolution Number JB-2000-PM-JOBANERR. It was subsequently approved by an Executive Order signed by the Governor on December 29, 2000. The Planning Board approval process renders the JBNERR Management Plan an enforceable document to be upheld by the Government of Puerto Rico.

The JBNERR Management Plan Revision submitted for the Planning Board approval process contained an action plan covering the years 2000-2004. NOAA is approving the Management Plan revision for the years 2001-2005. To remedy the discrepancy in the five-year time period, NOAA has requested and DNER has agreed to submit a supplemental 2005 action plan and update for NOAA approval in 2004.

Revisions to the JBNERR Management Plan include the following:

1.Updated and detailed boundary maps and maps of natural resources and land uses within and adjacent to the reserve.

2. A full discussion of the management issues at the reserve.

3. A section detailing staffing needs, roles, and responsibilities.

4. A facilities description. Under a NOAA matching grant, the DNER has renovated a historic building to serve as the Visitors Center. This central facility consists of administrative offices, an information center, a conference and exhibit area, and a laboratory.

5. A new section addressing resource protection that includes goals and objectives; a management sector zoning plan establishing preservation, conservation, and limited use sectors; and resource protection guidelines that prohibit jet skis and allow seasonal hunting in designated areas.

6. Appendices that provide a set of regulations for the use and protection of JBNERR resources; summaries of the commonwealth legal authorities applicable to the reserve; a surveillance and enforcement plan for the DNER Ranger Corps; and guidelines for research, monitoring, manipulation, and education activities to be undertaken at the reserve.

The chief areas of concentration for the JBNERR in the next four years are as follows:

1. Establishing a Citizens' Advisory Committee, Research Advisory Committee, and Education Advisory Committee.

2. Increasing coordination among Federal and local agencies related to surveillance and enforcement.

3. Expanding the reserve's role in protecting and restoring reserve resources through boundary delineation and increased signage, acquisition, the special area planning process, and action on the U.S. Environmental Protection Agency consent order related to the northern boundary of the reserve.

4. Improving the transfer of estuarine information between reserve programs and external groups (e.g. local neighbors, local and commonwealth decision-makers in the scientific, governmental and educational communities) through exhibits, newsletters, interpretive trails, teaching guides and curriculum materials, and coastal decision-maker workshops.

5. Encouraging community stewardship of the estuary and watershed through an expanded outreach program and enhanced access to the reserve.

6. Initiating a reserve volunteer program.

7. Completing an environmental characterization and site profile for the reserve.

8. Designing and implementing a long-term environmental monitoring program that incorporates the national System-Wide Monitoring Program.

9. Actively promoting collaborative research activities.

Copies of the document can be obtained from the Jobos Bay National Estuarine Research Reserve, Department of Natural and Environmental Resources, Call Box B, Aguirre, Puerto Rico, 00704. (787) 853-4617.

Federal Domestic Assistance Catalog Number 11.420
Dated: May 3, 2001.
Ted Lillestolen,
Deputy Assistant Administrator for Ocean Services and Coastal Zone Management.

[FR Doc. 01-11995 Filed 5-11-01; 8:45 am]

BILLING CODE 3510-08-P